DEPARTMENT OF COMMERCE

International Trade Administration

[A-570-051]

Certain Hardwood Plywood Products From the People's Republic of China: Preliminary Results of Antidumping Duty Administrative Review and Preliminary Determination of No Shipments; 2020

AGENCY: Enforcement and Compliance, International Trade Administration, Department of Commerce.

SUMMARY: The Department of Commerce (Commerce) preliminarily determines that 17 exporters of certain hardwood plywood products (hardwood plywood) from the People's Republic of China (China) under review had no shipments of subject merchandise during the period of review (POR) January 1, 2020, through December 31, 2020. Commerce also preliminary determines that the remaining 39 remaining companies subject to this review are part of the China-wide entity because they did not demonstrate eligibility for separate rates.

DATES: Applicable February 3, 2022.

FOR FURTHER INFORMATION CONTACT: Kabir Archuletta, AD/CVD Operations, Office V, Enforcement and Compliance, International Trade Administration, U.S. Department of Commerce, 1401 Constitution Avenue NW, Washington, DC 20230; telephone: (202) 482-2593.

SUPPLEMENTARY INFORMATION:

Background

On March 4, 2021, Commerce published in the Federal Register a notice of initiation of an administrative review of the antidumping duty (AD) order ¹ on hardwood plywood from China with respect to 56 exporters.² Subsequently, we released U.S. Customs and Border Protection (CBP) data to interested parties for comment.³ We received comments from the petitioner.⁴ No other interested party commented on the CBP data.

¹ See Certain Hardwood Plywood Products from the People's Republic of China: Amended Final Determination of Sales at Less Than Fair Value, and Antidumping Duty Order, 83 FR 504 (January 4, 2018) (Order).

² See Initiation of Antidumping and Countervailing Duty Administrative Reviews, 86 FR 12599 (March 4, 2021) (Initiation Notice).

³ See Memorandum, “Release of U.S. Customs and Border Protection Data,” dated March 10, 2021.

⁴ The petitioner is the Coalition for Fair Trade in Hardwood Plywood. See Petitioner's Letter, “Hardwood Plywood Products from the People's Republic of China: Comments on CBP Data,” dated March 17, 2021.

From March 30 to April 5, 2021, we received timely no-shipment certifications from 17 companies.⁵ We did not receive a no-shipment statement, separate rate application (SRA), or separate rate certification (SRC) from any other company subject to this review. On June 14, 2021, we received a request from the petitioner that we conduct verification of the information submitted in this review.⁶ On October 1, 2021, Commerce extended the time limit for completing the preliminary results of this review to January 28, 2022.⁷

⁵ We received timely no-shipment certifications from the following companies: (1) Celtic Co., Ltd.; (2) Cosco Star International Co., Ltd.; (3) Happy Wood Industrial Group Co., Ltd.; (4) Jiaxing Hengtong Wood Co., Ltd.; (5) Linyi Evergreen Wood Co., Ltd.; (6) Linyi Glary Plywood Co., Ltd.; (7) Linyi Huasheng Yongbin Wood Co., Ltd.; (8) Linyi Jiahe Wood Industry Co., Ltd.; (9) Linyi Sanfortune Wood Co., Ltd.; (10) Qingdao Top P&Q International Corp.; (11) Shandong Qishan International Trading Co., Ltd.; (12) Shanghai Brightwood Trading Co., Ltd.; (13) Shanghai Futuwood Trading Co., Ltd.; (14) Shanghai Luli Trading Co., Ltd.; (15) Suqian Hopeway International Trade Co., Ltd.; (16) Xuzhou Jiangyang Wood Industries Co., Ltd.; and (17) Zhejiang Dehua TB Import & Export Co., Ltd.

⁶ See Petitioner's Letter, “Request for Verification,” dated June 14, 2021.

⁷ See Memorandum, “Extension of Deadline for Preliminary Results of Antidumping Duty Administrative Review, 2020,” dated October 1, 2021. See also Memorandum, “Clarification of Extension of Deadline for Preliminary Results of Antidumping Duty Administrative Review, 2020,” dated October 13, 2021.

For a complete description of the events that followed the initiation of this administrative review, see the Preliminary Decision Memorandum.⁸ A list of topics included in the Preliminary Decision Memorandum is provided in Appendix III to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be found at http://enforcement.trade.gov/frn/. The signed and the electronic versions of the Preliminary Decision Memorandum are identical in content.

⁸ See Memorandum, “Decision Memorandum for the Preliminary Results for the 2020 Antidumping Duty Administrative Review: Certain Hardwood Plywood from the People's Republic of China,” dated concurrently with, and hereby adopted by, this notice (Preliminary Decision Memorandum).

Scope of the Order

The product covered by the order is hardwood plywood from China. A full description of the scope of the order is contained in the Preliminary Decision Memorandum.⁹

⁹ Id.

Methodology

Commerce is conducting this review in accordance with section 751(a)(1)(B) of the Tariff Act of 1930, as amended (the Act) and 19 CFR 351.213.

Preliminary Determination of No Shipments

Based upon the no shipment certifications received by Commerce, and our review of the CBP data, we preliminary find that 17 companies had no shipments during the POR. Commerce requested that CBP confirm whether any shipments of subject merchandise entered the United States during the POR with respect to the 17 companies that submitted no shipment claims, and CBP responded that it has no record of any subject entries for these 17 inquiries.¹⁰ Because we have corroborated the 17 no-shipment claims with CBP, we have verified these claims for purposes of these preliminary results, in accordance with section 782(i) of the Act. For additional information regarding this determination, see the Preliminary Decision Memorandum. Consistent with our assessment in non-market economy administrative reviews,¹¹ Commerce is not rescinding this review for these 17 companies.¹² Commerce intends to complete this review and issue appropriate instructions to CBP based on the final results of this review.

¹⁰ See Memorandum “No Shipment Inquiries for Multiple Companies during the period 01/01/2020 through 12/31/2020,” dated April 16, 2021.

¹¹ See Non-Market Economy Antidumping Proceedings: Assessment of Antidumping Duties, 76 FR 65694, 65694-95 (October 24, 2011); see also “Assessment Rate” section below.

¹² See Appendix II.

Separate Rates

Because the other 39 companies under review did not submit a no-shipment certification, SRA, or SRC, Commerce preliminarily determines that these companies have not demonstrated their eligibility for separate rates.¹³ For additional information, see the Preliminary Decision Memorandum.

¹³ See Appendix I.

China-Wide Entity

Commerce's policy regarding conditional review of the China-wide entity applies to this administrative review.¹⁴ Under this policy, the China-wide entity will not be under review unless a party specifically requests, or Commerce self-initiates, a review of the China-wide entity.¹⁵ Because no party requested a review of the China-wide entity in this review, the China-wide entity is not under review and the China-wide entity's rate (i.e., 183.36 percent) is not subject to change.¹⁶ For additional information, see the Preliminary Decision Memorandum.

¹⁴ See Antidumping Proceedings: Announcement of Change in Department Practice for Respondent Selection in Antidumping Duty Proceedings and Conditional Review of the Nonmarket Economy Entity in NME Antidumping Duty Proceedings, 78 FR 65963 (November 4, 2013).

¹⁵ Id.

¹⁶ See Order, 83 FR at 512.

Public Comment

In accordance with 19 CFR 351.309(c), case briefs or other written comments may be submitted to the Assistant Secretary for Enforcement and Compliance no later than 30 days after the date of publication of these preliminary results, unless the Secretary alters the time limit. Rebuttal briefs, limited to issues raised in case briefs, may be submitted no later than seven days after the deadline date for case briefs.¹⁷ Pursuant to 19 CFR 351.309(c)(2) and (d)(2), parties who submit case briefs or rebuttal briefs in this review are encouraged to submit with each argument: (1) A statement of the issue; (2) a brief summary of the argument; and (3) a table of authorities. Note that Commerce has temporarily modified certain of its requirements for serving documents containing business proprietary information, until further notice.¹⁸

¹⁷ See 19 CFR 351.309; see also 19 CFR 351.303 (for general filing requirements).

¹⁸ See Temporary Rule Modifying AD/CVD Service Requirements Due to Covid-19, Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, within 30 days after the date of publication of this notice. Requests should contain: (1) The party's name, address, and telephone number; (2) the number of participants; and (3) a list of issues to be discussed. Oral presentations at the hearing will be limited to those issues raised in the briefs. If a request for a hearing is made, Commerce intends to hold the hearing at a date and time to be determined.¹⁹

¹⁹ See 19 CFR 351.310(d).

Assessment Rates

Upon issuance of the final results of this review, Commerce will determine, and CBP shall assess, AD duties on all appropriate entries covered by this review.²⁰ We have not calculated any assessment rates in this administrative review. Based on record evidence, we have preliminarily determined that 17 companies had no shipments of subject merchandise and, therefore, pursuant to Commerce's assessment practice, any suspended entries that entered under their case numbers, where available, will be liquidated at the China-wide entity rate.²¹ For all remaining companies subject to this review, which are part of the China-wide entity, we will instruct CBP to liquidate their entries at the current rate for the China-wide entity (i.e., 183.36 percent). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²⁰ See 19 CFR 351.212(b)(1).

²¹ For a full discussion of this practice, see Non-Market Economy Antidumping Proceedings: Assessment of Antidumping Duties, 76 FR 65694 (October 24, 2011).

Cash Deposit Requirements

The following cash deposit requirements will be effective upon publication of the final results of this administrative review for shipments of the subject merchandise from China entered, or withdrawn from warehouse, for consumption on or after the publication date of the final results of this administrative review, as provided by section 751(a)(2)(C) of the Act: (1) The cash deposit rates for the 17 companies that had no shipments during the POR will remain unchanged from the rates assigned to them in the most recently completed segment for each company; (2) for previously investigated or reviewed Chinese and non-Chinese exporters that have separate rates, the cash deposit rate will continue to be the exporter-specific rate published for the most recently completed segment of this proceeding; (3) for all Chinese exporters of subject merchandise that have not been found to be entitled to a separate rate, the cash deposit rate will be the rate for the China-wide entity (i.e., 183.36 percent); and (4) for all non-Chinese exporters of subject merchandise that have not received their own rate, the cash deposit rate will be the rate applicable to the Chinese exporter that supplied that non-Chinese exporter. These deposit requirements, when imposed, shall remain in effect until further notice.

Final Results of Review

Unless otherwise extended, Commerce intends to issue the final results of this administrative review, which will include the results of its analysis of issues raised in any briefs, within 120 days of publication of these preliminary results of review, pursuant to section 751(a)(3)(A) of the Act.

Notification to Importers

This notice also serves as a reminder to importers of their responsibility under 19 CFR 351.402(f)(2) to file a certificate regarding the reimbursement of AD duties prior to liquidation of the relevant entries during this POR. Failure to comply with this requirement could result in Commerce's presumption that reimbursement of AD duties occurred and the subsequent assessment of double AD duties.

Notification to Interested Parties

These preliminary results of administrative review are issued and published in accordance with sections 751(a)(1) and 777(i)(l) of the Act, and 19 CFR 351.213(h)(1).

Dated: January 27, 2022.
Lisa W. Wang,
Assistant Secretary for Enforcement and Compliance.

Appendix I

Companies Not Eligible for a Separate Rate

1. Anhui Hoda Wood Co., Ltd.

2. China Friend Limited.

3. Deqing China-Africa Foreign Trade Port Co., Ltd.

4. Feixian Jinde Wood Factory

5. G.D. Enterprise Limited

6. Henan Hongda Woodcraft Industry Co., Ltd.

7. Jiangsu Qianjiuren International Trading Co., Ltd.

8. Jiangsu Shengyang Industrial Joint Stock Co., Ltd.

9. Jiashan Dalin Wood Industry Co., Ltd.

10. Jiaxing Kaochuan Woodwork Co., Ltd.

11. Leadwood Industrial Corp.

12. Linyi Chengen Import and Export Co., Ltd.

13. Linyi City Dongfang Fukai Wood Industry Co., Ltd.

14. Linyi City Shenrui International Trade Co., Ltd.

15. Linyi Tian He Wooden Industry Co., Ltd.

16. Pizhou Dayun Import & Export Trade Co., Ltd.

17. Pizhou Jin Sheng Yuan International Trade Co., Ltd.

18. Shandong Anxin Timber Co., Ltd.

19. Shandong Huaxin Jiasheng Wood Co., Ltd.

20. Shandong Huiyu International Trade Co., Ltd.

21. Shandong Johnson Trading Co., Ltd.

22. Shanghai S&M Trade Co., Ltd.

23. Smart Gift International

24. Suining Pengxiang Wood Co., Ltd.

25. Suqian Yaorun Trade Co., Ltd

26. Suzhou Dongsheng Wood Co., Ltd.

27. Suzhou Oriental Dragon Import and Export Co., Ltd.

28. Xuzhou Baoqi Wood Product Co., Ltd.

29. Xuzhou Dilun Wood Co. Ltd.

30. Xuzhou Eastern Huatai International Trading Co., Ltd.

31. Xuzhou Hansun Import & Export Co. Ltd.

32. Xuzhou Jiangheng Wood Products Co., Ltd.

33. Xuzhou Maker's Mark Building Materials Co., Ltd.

34. Xuzhou Shenghe Wood Co. Ltd.

35. Xuzhou Shuiwangxing Trading Co., Ltd.

36. Xuzhou Shuner Import & Export Trade Co. Ltd.

37. Xuzhou Tianshan Wood Co., Ltd.

38. Xuzhou Timber International Trade Co., Ltd.

39. Yangzhou Hanov International Co., Ltd.

Appendix II

Companies Preliminarily Found To Have No Shipments

1. Celtic Co., Ltd.

2. Cosco Star International Co., Ltd.

3. Happy Wood Industrial Group Co., Ltd.

4. Jiaxing Hengtong Wood Co., Ltd.

5. Linyi Evergreen Wood Co., Ltd.

6. Linyi Glary Plywood Co., Ltd.

7. Linyi Huasheng Yongbin Wood Co., Ltd.

8. Linyi Jiahe Wood Industry Co., Ltd.

9. Linyi Sanfortune Wood Co., Ltd.

10. Qingdao Top P&Q International Corp.

11. Shandong Qishan International Trading Co., Ltd.

12. Shanghai Brightwood Trading Co., Ltd.

13. Shanghai Futuwood Trading Co., Ltd.

14. Shanghai Luli Trading Co., Ltd.

15. Suqian Hopeway International Trade Co., Ltd.

16. Xuzhou Jiangyang Wood Industries Co., Ltd.

17. Zhejiang Dehua TB Import & Export Co., Ltd.

Appendix III

List of Topics Discussed in the Preliminary Decision Memorandum

I. Summary

II. Background

III. Scope of the Order

IV. Discussion of the Methodology

V. Recommendation

[FR Doc. 2022-02216 Filed 2-2-22; 8:45 am]

BILLING CODE 3510-DS-P